DEPARTMENT OF AGRICULTURE

National Agricultural Statistics Service

Notice of Intent To Suspend the 2012 Census of Agriculture Content Testing

AGENCY: National Agricultural Statistics Service, USDA.

ACTION: Notice of suspension of data collection.

SUMMARY: This notice announces the intention of the National Agricultural Statistics Service (NASS) to suspend a currently approved information collection, the 2012 Census of Agriculture Content Testing.

FOR FURTHER INFORMATION CONTACT: Joseph T. Reilly, Associate Administrator, National Agricultural Statistics Service, U.S. Department of Agriculture, (202) 720-4333.

SUPPLEMENTARY INFORMATION:

Title: 2012 Census of Agriculture Content Testing.

OMB Control Number: 0535-0243.

Expiration Date of Approval: January 31, 2013.

Type of Request: To suspend a currently approved information collection.

Abstract: The primary objective of the National Agricultural Statistics Service is to prepare and issue State and national estimates of crop and livestock production, disposition, and prices. The Census of Agriculture is conducted every five years and is the primary source of statistics concerning the nation's agricultural industry and provides the only basis of consistent, comparable data.

Prior to the census, NASS conducts content tests to evaluate factors impacting the census program: questionnaire format and design, new items, changes to question wording and location, respondent burden, ease of completion, and processing methodology such as edit and summary.

With the 2012 Census of Agriculture questionnaires being finalized, NASS will be suspending the content testing. NASS will reinstate the content testing docket in 2015 to prepare for the 2017 Census of Agriculture.

NASS will suspend this information collection (2012 Census of Agriculture Content Testing) as of September 5, 2012 due to the completion of the survey.

Authority: These data were collected under authority of 7 U.S.C. 2204g. Individually identifiable data collected under this authority are governed by Section 1770 of the Food Security Act of 1985 as amended, 7 U.S.C. 2276, which requires USDA to afford strict confidentiality to non-aggregated data provided by respondents.

Estimate of Burden: There will be no further public reporting burden for this collection of information.

Signed at Washington, DC, August 22, 2012.
Joseph T. Reilly,
Associate Administrator.

[FR Doc. 2012-21740 Filed 9-4-12; 8:45 am]

BILLING CODE 3410-20-P